DEPARTMENT OF THE INTERIOR

National Park Service

[NPS-WASO-NRNHL-DTS#-33078; PPWOCRADI0, PCU00RP14.R50000]

National Register of Historic Places; Notification of Pending Nominations and Related Actions

AGENCY: National Park Service, Interior.

ACTION: Notice.

SUMMARY: The National Park Service is soliciting electronic comments on the significance of properties nominated before November 27, 2021, for listing or related actions in the National Register of Historic Places.

DATES: Comments should be submitted electronically by December 22, 2021.

ADDRESSES: Comments are encouraged to be submitted electronically to National_Register_Submissions@nps.gov with the subject line “Public Comment on <property or proposed district name, (County) State>.” If you have no access to email you may send them via U.S. Postal Service and all other carriers to the National Register of Historic Places, National Park Service, 1849 C Street NW, MS 7228, Washington, DC 20240.

FOR FURTHER INFORMATION CONTACT: Sherry A. Frear, Chief, National Register of Historic Places/National Historic Landmarks Program, 1849 C Street NW, MS 7228, Washington, DC 20240, sherry_frear@nps.gov, 202-913-3763.

SUPPLEMENTARY INFORMATION: The properties listed in this notice are being considered for listing or related actions in the National Register of Historic Places. Nominations for their consideration were received by the National Park Service before November 27, 2021. Pursuant to Section 60.13 of 36 CFR part 60, comments are being accepted concerning the significance of the nominated properties under the National Register criteria for evaluation.

Before including your address, phone number, email address, or other personal identifying information in your comment, you should be aware that your entire comment—including your personal identifying information—may be made publicly available at any time. While you can ask us in your comment to withhold your personal identifying information from public review, we cannot guarantee that we will be able to do so.

Nominations submitted by State or Tribal Historic Preservation Officers:

ARIZONA

Pima County

Casitas de Castilian Historic District, 643 West Las Lomitas Rd., Tucson, SG100007293

CALIFORNIA

Alameda County

People's Park, Between Haste St. Dwight Way, Telegraph Ave., and Bowditch St., Berkeley, SG100007288

Los Angeles County

Commercial Club, 1100 South Broadway, Los Angeles, SG100007286

Orange County

Floral Park Historic District, Roughly bounded by Santiago Cr., Broadway, 17th, and Flower Sts., Santa Ana, SG100007287

FLORIDA

St. Johns County, St. Augustine Beach Hotel and Beachfront, 370 FL A1A, St. Augustine Beach, SG100007284

GEORGIA

Habersham County

Cornelia Commercial Historic District, Centered around intersection of Main and Irvin Sts., Cornelia, SG100007277

ILLINOIS

Madison County

Middletown Historic District (Boundary Increase II), Roughly bounded by Front, State, Fourth, Market, Broadway, Third, Alby, Langdon, and Ridge Sts., Alton, BC100007272

KANSAS

Bourbon County

Herbert, Thomas L. and Anna B., House, 512 South Judson Street, Fort Scott, SG100007280

Cowley County

Winfield Fox Theatre, (Theaters and Opera Houses of Kansas MPS), 1007 Main St., Winfield, MP100007282

Crawford County

Pittsburg Foundry & Machine Company, 104 North Locust St., Pittsburg, SG100007281

Shawnee County

Country Club Residential Historic District, Roughly bounded by SW 24th St., SW Topeka Blvd., SW Merriam Ct., and SW Western Ave., Topeka, SG100007279

Wyandotte County

Kansas City, Kansas City Hall and Fire Headquarters (Boundary Increase), 538 Ann Ave., Kansas City, BC100007283

LOUISIANA

Orleans Parish, White Rock Saloon, 1216 Bienville St., New Orleans, SG100007295

NEW HAMPSHIRE

Rockingham County

Plains Cemetery, Cemetery Ln., Kingston, SG100007290

NORTH CAROLINA

Pasquotank County

Elizabeth City Historic District (Boundary Increase II), Roughly along Selden between West Main and West Church Sts.; roughly bounded by North Elliot, Elizabeth, Poindexter, McMorrine, Church, Pool, and Grice Sts.; and roughly bounded by Poindexter, Grice, McMorrine, and Fearing Sts., and 302 Colonial Ave., Elizabeth City, BC100007276

TEXAS

Bexar County

Borden's Creamery, 875 East Ashby Pl., San Antonio, SG100007273

An owner objection has been received for the following resources:

CALIFORNIA

Orange County

Christiansen and Grow Filling Station, 305 South Main St., Orange, SG100007285

UTAH

Salt Lake County, Pantages Theatre, 144 South Main St., Salt Lake City, SG100007291

Additional documentation has been received for the following resources:

ARIZONA

Maricopa County

Borden Homes Historic District (Additional Documentation), 1118 South Butte St., Tempe, AD11001072

Pima County

Barrio El Hoyo Historic District (Additional Documentation), 508 W. 18th St., Tucson, AD08000763

West University Historic District (Additional Documentation), Roughly bounded by Speedway Blvd., 6th St., Park and Stone Aves., Tucson, AD80004240

CALIFORNIA

San Francisco County

San Francisco-Oakland Bay Bridge (Additional Documentation), I-80, San Francisco vicinity, AD00000525

Authority: Section 60.13 of 36 CFR part 60.

Dated: November 30, 2021.
Sherry A. Frear,
Chief, National Register of Historic Places/National Historic Landmarks Program.

[FR Doc. 2021-26429 Filed 12-6-21; 8:45 am]

BILLING CODE 4312-52-P